DEPARTMENT OF HOMELAND SECURITY

Coast Guard

33 CFR Part 100

[Docket No. USCG-2023-0651]

Special Local Regulations; Portland Dragon Boat Races, Willamette River, Portland, OR

AGENCY: Coast Guard, DHS.

ACTION: Notification of enforcement of regulation.

SUMMARY: The Coast Guard will enforce special local regulations for the Portland Dragon Boat Races from September 9 through 10, 2023, to provide for the safety of life on navigable waterways during this event. Our regulation for marine events within the Thirteenth Coast Guard District identifies the regulated area for this event on the Willamette River in Portland, OR. During the enforcement periods, the operator of any vessel in the regulated area must comply with the directions from the Patrol Commander or any official patrol vessel. Official patrol vessels may consist of any Coast Guard, Coast Guard Auxiliary, state, or local law enforcement vessels assigned or approved by the Captain of the Port, Sector Columbia River.

DATES: The regulations in 33 CFR 100.1302 will be enforced from 7:30 a.m. until 5:30 p.m., each day from September 9 through 10, 2023.

FOR FURTHER INFORMATION CONTACT: If you have questions about this notification of enforcement, call or email LT Carlie Gilligan, Waterways Management Division, Sector Columbia River, Coast Guard; telephone 503-240-9319, email SCRWWM@uscg.mil.

SUPPLEMENTARY INFORMATION: The Coast Guard will enforce special local regulations in 33 CFR 100.1302 for the Portland Dragon Boat Races regulated area from 7:30 a.m. to 5:30 p.m. on September 9 and 10, 2023. This action is being taken to provide for the safety of life on navigable waterways during this event. Our regulation for marine events within the Thirteenth Coast Guard District, § 100.1302, specifies the location of the regulated area for the Portland Dragon Boat Races which encompasses portions of the Willamette River in Portland, OR. During the enforcement periods, as reflected in § 100.1302, vessels may not transit the regulated areas without approval from the Patrol Commander or an Official Patrol Vessel. Vessels permitted to transit must operate at a no wake speed, in a manner which will not endanger participants or other crafts in the event.

In addition to this notification of enforcement in the Federal Register, the Coast Guard plans to provide notification of this enforcement period via the Local Notice to Mariners and marine information broadcasts.

Dated: August 21, 2023.
J.W. Noggle,
Captain, U.S. Coast Guard, Captain of the Port Columbia River.

[FR Doc. 2023-18917 Filed 8-31-23; 8:45 am]

BILLING CODE 9110-04-P